DEPARTMENT OF THE INTERIOR

43 CFR Part 2

RIN 1090-AA61

Revision of the Freedom of Information Act Regulations and Implementation of the Electronic Freedom of Information Act Amendments of 1996

AGENCY: Department of the Interior.

ACTION: Final Rule; correcting amendments.

SUMMARY: In the October 21, 2002, Federal Register, the Department of the Interior (DOI) revised its regulations implementing the Freedom of Information Act (FOIA). This amendment adds four offices under the Office of Hearings and Appeals (OHA) that were inadvertently omitted in Appendix A, which provides a list of the Department's FOIA resources. This amendment also adds the requirement that bureaus notify requesters of their appeal rights when referring documents to another agency for a release determination, which was inadvertently omitted from section 2.22(b)(2), and makes several other editorial changes.

DATES: Effective on September 30, 2004.

FOR FURTHER INFORMATION CONTACT: Alexandra Mallus, Departmental FOIA Officer, Office of the Chief Information Officer, 1849 C Street, NW., MS-5312-MIB, Washington, DC 20240, telephone 202-208-5342.

SUPPLEMENTARY INFORMATION: The Department of the Interior published a final rule in the Federal Register on October 21, 2002, revising its regulations implementing the FOIA, 43 CFR Part 2. Four offices under the OHA were inadvertently omitted in Appendix A and the addresses for OHA's reading rooms located in Arlington, Virginia, and the Minnesota State Office, as well as the telephone number for the New Mexico State Office, were incorrect. The Arizona, Montana, North Dakota, and South Dakota State Offices have been added to Appendix A and the above-cited addresses and telephone number have now been corrected. Appendix A also has been updated to reflect other changes in the contact information that have occurred since October 21, 2002.

When the regulations were published in October 2002, the reference to OMB Circular A-110 in § 2.25 was inadvertently omitted. A correction has been made to clarify that, in accordance with OMB Circular A-110, the requirements of § 2.25 apply only to grants and Federal assistance awarded to institutions of higher education, public and private hospitals, and other quasi-public and private nonprofit organizations. They do not apply to those entities covered by OMB Circular A-102.

In addition, in § 2.22(b)(2), the requirement that bureaus notify requesters of their appeal rights when referring documents located in DOI's files to another agency for a release determination was inadvertently omitted. Section 2.22(b)(2) has been revised to include this requirement. Also, in § 2.17(c), the table summarizing the chargeable fees for each category of requester is being reprinted for clarity. Editorial changes have been made in §§ 2.18 and 2.23 to correct the references cited and typographical errors.

Administrative Procedure Act

This rule updates the Code of Federal Regulations to include accurate information about how to file requests under the FOIA. Because this rule corrects errors and omissions from the rule as originally published, and because this rule makes no substantive changes to the existing requirements, publishing a proposed rule and requesting public comments would delay public access to accurate information. Likewise, delaying the effective date would postpone public access to accurate information without serving any higher purpose. For these reasons, we find that:

(1) Notice and public comment on these corrections are impracticable, unnecessary, and contrary to the public interest. As allowed by 5 U.S.C. 553(b), we are not publishing a proposed rule.

(2) Good cause exists for making this rule effective immediately upon publication under 5 U.S.C. 553(d)(3).

List of Subjects in 43 CFR Part 2

Administrative practice and procedure, Classified information, Courts, Freedom of information, Government employees, Privacy.

For the reasons set forth in the preamble, the Department is amending 43 CFR Part 2 as set forth below:

PART 2—RECORDS AND TESTIMONY: FREEDOM OF INFORMATION ACT

1. The authority citation for Part 2 continues to read as follows:

Authority: 5 U.S.C. 301, 552 and 552a; 31 U.S.C. 9701 and 43 U.S.C. 1460-1461. Appendix F to Part 2 also is issued under 30 U.S.C. 201-209; 30 U.S.C. 351-360.

2. In paragraph (c) of § 2.17, the table is revised to read as follows:

§ 2.17 How will my requester category affect the fees that I am charged?

* * * * *

(c) * * *

Category | Search fees | Review fees | Duplication fees
Commercial Use | Yes | Yes | Yes.
Educational Institution | No | No | Yes (100 pages free).
Non-Commercial Sciencific Institution | No | No | Yes (100 pages free).
News Media | No | No | Yes (100 pages free).
All other | Yes (2 hours free) | No | Yes (100 pages free).

* * * * *

3. In § 2.18, paragraph (g) is revised to read as follows:

§ 2.18 How are fees assessed and collected?

* * * * *

(g) Failure to pay fees. The bill for collection or the response letter will include a statement that interest will be charged in accordance with 31 U.S.C. 3717 and implementing regulations, if the fees are not paid within 30 calendar days of the date of the bill. This requirement does not apply if the requester is a State, local, or tribal government. The Debt Collection Improvement Act of 1996 will be used, as appropriate, to collect the fees (see Public Law 104-134).

* * * * *

4. In § 2.22, paragraph (b)(2) introductory text is revised to read as follows:

§ 2.22 What happens if a bureau receives a request for records it does not have or did not create?

* * * * *

(b) * * *

(2) If, in response to a request, a bureau locates documents that originated with another Federal agency, it will refer the request, along with any responsive document(s), to that agency for a release determination and direct response. If the bureau refers the documents to another agency, it will notify you of the referral in writing and provide the name of a contact at the other agency. You may treat such a response as a denial of records and file an appeal. However, in the following situations, the bureau will make the release determination, after consulting with the originating agency.

* * * * *

5. In § 2.23, paragraphs (d) and (e)(3) are revised to read as follows:

§ 2.23 How will a bureau handle a request for commercial or financial information that it has obtained from a person or entity outside the Federal Government?

* * * * *

(d) Whenever a bureau notifies a submitter that it may be required to disclose information in response to a FOIA request, the bureau also will notify you that it is giving the submitter an opportunity to review and comment on the material.

(e) * * *

(3) If not already provided, a telephone number (where the submitter can be reached during normal business hours), an e-mail address, and a fax number (if available) is important information that will help the bureau or Department communicate with the submitter.

* * * * *

6. The introductory text of § 2.25 is revised to read as follows:

§ 2.25 How will a bureau handle a request for Federally-funded research data in the possession of a private entity?

In accordance with OMB Circular A-110, when published research findings are produced under a grant or other Federal assistance awarded to institutions of higher education, public and private hospitals, and other quasi-public and private nonprofit organizations, and the findings are used by a bureau in developing an agency action, e.g., a policy or regulation, research data related to such findings are considered agency records. This applies even if the bureau's data are in the possession of the recipient of the Federal financial assistance (recipient).

* * * * *

7. Appendix A is revised to read as follows:

Appendix A to Part 2—Department of the Interior FOIA/Public Affairs Contacts and Reading Rooms

BILLING CODE 4310-RK-P

Note: For more information on FOIA, including the most current listing of FOIA Contacts, visit DOI's FOIA home page at http://www.doi.gov/foia/.

Dated: September 21, 2004.
P. Lynn Scarlett,
Assistant Secretary—Policy, Management and Budget.

[FR Doc. 04-21789 Filed 9-29-04; 8:45 am]

BILLING CODE 4310-RK-C